DEPARTMENT OF COMMERCE

National Oceanic and Atmospheric Administration

RIN 0648-XF695

International Trade Data System Test Concerning the Electronic Submission of Certain Data Required for the Seafood Import Monitoring Program

AGENCY: National Marine Fisheries Service (NMFS), National Oceanic and Atmospheric Administration (NOAA), Commerce.

ACTION: Notice; request for comments.

SUMMARY: NMFS announces, in consultation with U.S. Customs and Border Protection (CBP), a test of the International Trade Data System (ITDS) involving the electronic submission of data, related to importation of fish products regulated by NMFS under the Seafood Import Monitoring Program (SIMP), using the import Partner Government Agency (PGA) data set via the Automated Commercial Environment (ACE) Secure Data Portal. CBP and NMFS have developed a plan to test and assess the electronic transmission of harvest and traceability data for fish imports of the Harmonized Tariff Schedule (HTS) codes covered by the SIMP.

The test will involve using the above referenced methods to transmit the data required for processing imports of products specified in the SIMP. Under this test, data may be submitted for the covered fish products imported in any operational port. SIMP does not require or allow for submission of forms through the Document Imaging System (DIS). All ports are operational for the test.

DATES: The test will commence after October 1, 2017, and will continue until concluded by publication of a notice in the Federal Register ending the test. Comments on the submission and processing of import data will be accepted throughout the duration of the test. On January 1, 2018 electronic submission of data under Seafood Import Monitoring Program will be mandatory.

ADDRESSES: To submit comments concerning this test program, send an email to Josephine Baiamonte (Josephine.Baiamonte@dhs.gov), Director, Business Transformation, Trade Transformation Office (ABO), Office of Trade. In the subject line of an email, please use, “Comment on NMFS SIMP Test FRN”.

Any party seeking to participate in this test should contact their client representative. Interested parties without an assigned client representative should submit an email to John Handy at John.Handy@dhs.gov with the subject heading “NMFS SIMP FRN—Request to Participate”.

FOR FURTHER INFORMATION CONTACT: For technical questions related to the Automated Commercial Environment (ACE) transmissions, contact your assigned client representative. Interested parties without an assigned client representative should direct their questions to John Handy at John.Handy@dhs.gov. For PGA reporting related questions, contact Emi Wallace (CBP) at emi.r.wallace@cbp.dhs.gov and for NMFS program related questions, contact Dale Jones (NMFS) at dale.jones@noaa.gov.

SUPPLEMENTARY INFORMATION:

Background

I. The Automated Commercial Environment

ACE is an automated and electronic system for commercial trade processing, which is intended to streamline business processes, facilitate growth in trade, ensure cargo security, and foster participation in global commerce, while ensuring compliance with U.S. laws and regulations and reducing costs for CBP and all of its communities of interest. The ability to meet these objectives depends on successfully modernizing CBP's business functions and the information technology that supports those functions.

CBP's modernization efforts are accomplished through phased releases of ACE component functionality designed to replace a specific function of the legacy Automated Commercial System (ACS) function. Each release will begin with a test and will end with mandatory use of the new ACE feature, thus retiring the legacy ACS function. Each release builds on previous releases and sets the foundation for subsequent releases.

II. International Trade Data System

This test is in furtherance of the ITDS, which is statutorily authorized by section 405 of the Security and Accountability for Every (SAFE) Port Act of 2006, Public Law 109-347. The purpose of ITDS, as defined by section 4 of the SAFE Port Act of 2006, is to eliminate redundant information filing requirements, efficiently regulate the flow of commerce, and effectively enforce laws and regulations relating to international trade, by establishing a single portal system, operated by CBP, for the collection and distribution of standard electronic import and export data required by all participating Federal agencies.

III. PGA Data Elements

At this time, ACE is prepared to accept certain PGA data elements for NMFS regulated fish imports included in the test. The PGA data elements comprising the test are generally related to harvest and landing of seafood, additional information on the Seafood Import Monitoring Program is available at http://www.iuufishing.noaa.gov/.

IV. The National Marine Fisheries Service Test

This ITDS test is in furtherance of key CBP ITDS initiatives as provided in the SAFE Port Act of 2006. Under this test, NMFS required data will be transmitted electronically through ACE for any merchandise or combination thereof covered by any of these programs.

For approved participants, the test may include all modes of transport and all commodities regulated under the Seafood Import Monitoring Program. The import entry filing process for NMFS will require the submission of specifically designated data/information at the time of filing entry with CBP. The transmission of the required data for NMFS will be utilized to collect the specified information that is required by NMFS. The data will be transmitted in ACE, using the Automated Broker Interface (ABI) at the time of filing an entry to CBP and it will accompany other required import data.

Examples of the kind of data that will be transmitted as part of this test are: The International Fisheries Trade Permit number, 3-alpha species codes, and fishing area. For information regarding fish products regulated by NMFS and data, information, forms and documents required by NMFS, see the implementation guidelines for the NMFS at: https://www.cbp.gov/document/guidance/nmfs-simp-message-set.

V. Test Participation Criteria and Participation Procedure

Any party seeking to participate in this test must provide CBP, in their request to participate, their ABI filer code and the port(s) at which they are interested in filing the appropriate PGA data set. Requests to participate in this test will be accepted throughout the duration of the test. To be eligible to apply for this test, the applicant must be a self-filing importer who has the ability to file import entries or a broker who has the ability to file import entries; and the applicant files or intends to file entries for NMFS commodities that are the subject of this test. All test participants are required to use a software program that has completed ACE certification testing for import data.

At this time, data submissions may be submitted for imports filed at any CBP port. Test participants should contact their client representative regarding import filings eligible for the test (see ADDRESSES).

VII. Anticipated Process Changes

A final rule establishing the Seafood Import Monitoring Program (SIMP)—was effective on January 9, 2017, and has a compliance date of January 1, 2018 (81 FR 88975; December 9, 2016). This test covers communication and coordination among the agencies and the filers for the importation of these fisheries products. The agencies will also be testing new operational processes in real time with actual ACE filings in the production environment that include test messages to communicate errors in filing and release status updates to the port and to the filer.

VI. Confidentiality

All data submitted and entered into ACE is subject to the Trade Secrets Act (18 U.S.C. 1905) and is considered confidential, except to the extent as otherwise provided by law. As stated in previous notices, participation in this or any of the previous ACE tests is not confidential and upon a written Freedom of Information Act (FOIA) request, a name(s) of an approved participant(s) will be disclosed by CBP in accordance with 5 U.S.C. 552.

Dated: September 29, 2017.
Steven Wilson,
Acting Director, Office for International Affairs and Seafood Inspection, National Marine Fisheries Service.

[FR Doc. 2017-21330 Filed 10-3-17; 8:45 am]

BILLING CODE 3510-22-P